ENVIRONMENTAL PROTECTION AGENCY

[ER-FRL-6636-6]

Environmental Impact Statements; Notice of Availability

Responsible Agency: Office of Federal Activities, General Information (202) 564-7167 or http://www.epa.gov/compliance/nepa/. Weekly receipt of Environmental Impact Statements Filed December 30, 2002 Through January 03, 2003 Pursuant to 40 CFR 1506.9.

EIS No. 030000, DRAFT EIS, FHW, TX, TX-121 Highway from Interstate Highway 30 to Farm-to-Market 1187 (FM 1187) in Forth Worth, Construction, USCG Section 9, COE Section 10 and 404 Permits, Tarrant County, TX, Comment Period Ends: February 24, 2003, Contact: Patrick Bauer (512) 536-5950.

EIS No. 030001, FINAL EIS, FHW, MO, U.S. Route 50 East-Central Corridor Study, Highway Improvements from Route 50 to Route 63 east of Jefferson City, Major Transportation Investment Analysis, Osage, Gasconade, and Franklin Counties, MO, Wait Period Ends: February 10, 2003, Contact: Don Neumann (573) 636-7104.

EIS No. 030002, DRAFT EIS, AFS, CO, Trout-West Hazardous Fuels Reduction Project, Proposed Action to Reduce Fuels, Pike-San Isabel National Forest, Trout and West Creek Watersheds, Teller, El Paso and Douglas Counties, CO, Comment Period Ends: March 03, 2003, Contact: Rochelle Desser (541) 592-4075. This document is available on the Internet at: (http://www.fs.fed.us/r2/psicc/spl/twest.htm.)

EIS No. 030003, FINAL EIS, FSA, Programmatic EIS—Conservation Reserve Program Implementation and Expansion, Farm Security and Rural Investment Act of 2002 (2002 Farm Bill), in the United States, Wait Period Ends: February 10, 2003, Contact: Don Steck (202) 690-0224. This document is available on the Internet at: http://www.fsa.usda.gov/cepd/epb/nepa/htm.

EIS No. 030004, DRAFT EIS, FTA, LA, Desire Streetcar Ling Project, Restoration of Streetcar Service Along North Rampart Street/St. Claude Avenue between Canal Street and Poland Avenue, Regional Transit Authority of New Orleans, New Orleans, LA, Comment Period Ends: February 24, 2003, Contact: Jesse Balleza (817) 978-0559.

EIS No. 030005, DRAFT SUPPLEMENT, DOE, WA, Kangley-Echo Lake Transmission Line Project, Construct a New 500 Kilovolt (kV) Transmission Line, Updated Information on the Re-evaluating Alternative Not Analyzed, COE Section 10 and Permits (DOE/EIS-0317), King County, WA, Comment Period Ends: February 24, 2003, Contact: Gene Lynard (503) 230-3790.

Dated: January 07, 2003.
Ken Mittelholtz,
Environmental Protection Specialist, Office of Federal Activities.

[FR Doc. 03-528 Filed 1-9-03; 8:45 am]

BILLING CODE 6560-50-P